DEPARTMENT OF THE INTERIOR

National Park Service

[NPS-WASO-NAGPRA-10776; 2200-1100-665]

Notice of Inventory Completion: Peabody Museum of Archaeology and Ethnology, Harvard University, Cambridge, MA; Correction

AGENCY: National Park Service, Interior.

ACTION: Notice; correction.

Notice is hereby given in accordance with the Native American Graves Protection and Repatriation Act (NAGPRA), 25 U.S.C. 3003, of the completion of an inventory of human remains and associated funerary objects in the possession of the Peabody Museum of Archaeology and Ethnology, Harvard University, Cambridge, MA. The human remains and associated funerary objects were removed from Burlington, Gloucester, and Mercer Counties, NJ, and Chester County, PA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the cultural affiliation of the human remains and associated funerary objects listed in a Notice of Inventory Completion (NIC) published in the Federal Register (73 FR 58625-58626, October 7, 2008), which itself corrected an earlier NIC published in the Federal Register (72 FR 41524-41525, July 30, 2007). After publication of the notices cited above and prior to any transfer of control of the human remains and associated funerary objects, the Delaware Tribe of Indians, Oklahoma, regained Federal recognition as an Indian entity eligible for the special programs and services provided by the United States to Indians because of their status as Indians (74 FR 40218-40219, August 11, 2009). Consequently, the Delaware Tribe of Indians, Oklahoma is an Indian tribe under NAGPRA (25 U.S.C. 3001 (7)). Based on the restoration of Federal recognition, officials of the Peabody Museum of Archaeology and Ethnology have determined that there is a relationship of shared group identity that can be reasonably traced between the Delaware people (from Middle Woodland through Historic period) and the Delaware Nation, Oklahoma; Delaware Tribe of Indians, Oklahoma; and the Stockbridge Munsee Community, Wisconsin.

In the Federal Register (73 FR 58625-58626, October 7, 2008), paragraph five, sentence three is corrected by substituting the following sentence:

Lastly, officials of the Peabody Museum of Archaeology and Ethnology have determined that, pursuant to 25 U.S.C. 3001 (2), there is a relationship of shared group identity that can be reasonably traced between the Native American human remains and associated funerary objects and the Delaware Nation, Oklahoma; Delaware Tribe of Indians, Oklahoma; and the Stockbridge Munsee Community, Wisconsin.

In the Federal Register (73 FR 58625-58626, October 7, 2008), paragraph six is corrected by substituting the following paragraph:

Representatives of any other Indian tribe that believes itself to be culturally affiliated with the human remains and associated funerary objects should contact Patricia Capone, Repatriation Coordinator, Peabody Museum of Archaeology and Ethnology, Harvard University, 11 Divinity Avenue, Cambridge, MA 02138, telephone (617) 496-3702, before September 4, 2012. Repatriation of the human remains and associated funerary objects to the Delaware Nation, Oklahoma; Delaware Tribe of Indians, Oklahoma; and the Stockbridge Munsee Community, Wisconsin, may proceed after that date if no additional claimants come forward.

The Peabody Museum of Archaeology and Ethnology is responsible for notifying the Cherokee Nation, Oklahoma; Delaware Nation, Oklahoma; Delaware Tribe of Indians, Oklahoma; and the Stockbridge Munsee Community, Wisconsin, that this notice has been published.

Dated: July 5, 2012.
Mariah Soriano,
Acting Manager, National NAGPRA Program.

[FR Doc. 2012-18947 Filed 8-1-12; 8:45 am]

BILLING CODE 4312-50-P